FEDERAL ELECTION COMMISSION

Sunshine Act; Meeting

DATE AND TIME: Thursday, October 28, 2004, 10 a.m.

PLACE: 999 E Street, NW., Washington, DC (Ninth Floor).

STATUS: This meeting will be open to the public.

THE FOLLOWING ITEM HAS BEEN ADDED TO THE AGENDA: Report of the Audit Division on the Conservative Leadership Political Action Committee.

PERSON TO CONTACT FOR INFORMATION: Robert Biersack, Acting Press Officer, telephone (202) 694-1220.

Mary W. Dove,
Secretary of the Commission.

[FR Doc. 04-24064 Filed 10-22-04; 2:52 pm]

BILLING CODE 6715-01-M